DEPARTMENT OF COMMERCE

Submission for OMB Review; Comment Request

The Department of Commerce will submit to the Office of Management and Budget (OMB) for clearance the following proposal for collection of information under the provisions of the Paperwork Reduction Act (44 U.S.C. chapter 35).

Agency: International Trade Administration.

Title: Foreign-Trade Zone Applications.

OMB Control Number: 0625-0139.

Form Number(s): N/A.

Type of Request: Regular Submission.

Number of Respondents: 248.

Average Hours per Response: New Zone Application, 131 hours; Subzone Application, 4.5 hours; Reorganization/Expansion Application, 99 hours; Production Notification, 5.5 hours; Production Application, 34 hours; Minor Boundary Modifications, 3.5 hours; Waivers, 9 hours.

Burden Hours: 3,128.

Needs and Uses: The Foreign-Trade Zone Application is the vehicle by which individual firms or organizations apply for foreign-trade zone (FTZ) status, for subzone status, production authority, or for expansion/reorganization of an existing zone. The FTZ Act and Regulations require that an application with a description of the proposed project be made to the FTZ Board (19 U.S.C. 81b and 81f; 15 CFR 400.24-26) before a license can be issued or a zone can be expanded. The Act and Regulations require that applications contain detailed information on facilities, financing, operational plans, proposed production operations, need, and economic impact. Production activity in zones or subzones, can involve issues related to domestic industry and trade policy impact. Such applications must include specific information on the customs tariff-related savings that result from zone procedures and the economic consequences of permitting such savings. The FTZ Board needs complete and accurate information on the proposed operation and its economic effects because the Act and Regulations authorize the Board to restrict or prohibit operations that are detrimental to the public interest.

Affected Public: State, local or tribal governments or not-for-profit institutions that are FTZ grantees, as well as private companies.

Frequency: As necessary to receive FTZ benefits.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2016-01607 Filed 1-26-16; 8:45 am]

BILLING CODE 3510-DS-P